DEPARTMENT OF TRANSPORTATION

Federal Aviation Administration

Notice of Intent To Release Certain Properties From all Terms, Conditions, Reservations and Restrictions of a Quitclaim Deed Agreement Between the City of Palatka and the Federal Aviation Administration for the Kay Larkin Field, Palatka Municipal Airport, Palatka, FL

AGENCY: Federal Aviation Administration (FAA), DOT.

ACTION: Request for Public Comment.

SUMMARY: The FAA hereby provides notice of intent to release certain airport properties (14.26 acres) at the Kay Larkin Field, Palatka Municipal Airport, Palatka, FL from the conditions, reservations, and restrictions as contained in an Agreement between the FAA and the City of Palatka, dated February 28, 1947. The release of property will allow the City of Palatka to dispose of the property for other than aeronautical purposes. The property is located in the Section 3, Township 10 South, Range 26 East, of Putnam County. The parcel is currently designated as non-aeronautical use. The property will be disposed of for the purpose of allowing for the construction of a floating dock manufacturing facility. The fair market value of the property has been determined by appraisal to be $25,000 per acre ($356,500). The airport will receive fair market value for the property, which will be subsequently reinvested in another eligible airport improvement project.

Documents reflecting the Sponsor's request are available, by appointment only, for inspection at the City of Palatka and the FAA Airports District Office.

DATES: January 2, 2009.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

ADDRESSES: Documents are available for review at the City of Palatka, 201 North 2nd Street, Palataka, FL 32117, and the FAA Airports District Office, 5950 Hazeltine National Drive, Suite 400, Orlando, FL 32822. Written comments on the Sponsor's request must be delivered or mailed to: Richard Owen, Program Manager, Orlando Airports District Office, 5950 Hazeltine National Drive, Suite 400, Orlando, FL 32822-5024.

FOR FURTHER INFORMATION CONTACT: Richard Owen, Program Manager, Orlando Airports District Office, 5950 Hazeltine National Drive, Suite 400, Orlando, FL 32822-5024.

W. Dean Stringer,
Manager, Orlando Airports District Office, Southern Region.

[FR Doc. E8-28504 Filed 12-2-08; 8:45 am]

BILLING CODE 4910-13-M